DEPARTMENT OF ENERGY

Federal Energy Regulatory Commission

[Docket No. ER05-1501-000]

California Independent System Operator Corp.; Notice of Technical Conference

November 21, 2005.

Parties and interested persons are invited to attend a technical conference in the above-referenced California Independent System Operator Corp (CAISO) proceeding on Wednesday, December 7, 2005, at the offices of the Federal Energy Regulatory Commission, 888 First Street, NE., Washington, DC 20426, from 9:30 a.m. until 5 p.m. (e.s.t.).

The technical conference will address the issues identified in the interventions and protests filed in this docket, as well as the responses in the CAISO's answer to those interventions and protests.

Questions about the conference should be directed to: Connie Caldwell; Office of the General Counsel; Federal Energy Regulatory Commission, 888 First Street, NE., Washington, DC 20426; (202) 502-6489; connie.caldwell@ferc.gov.

Magalie R. Salas,
Secretary.

[FR Doc. E5-6681 Filed 11-29-05; 8:45 am]

BILLING CODE 6717-01-P